DEPARTMENT OF ENERGY

Federal Energy Regulatory Commission

Combined Notice of Filings #1

Take notice that the Commission received the following electric corporate filings:

Docket Numbers: EC21-54-000.

Applicants: Hamilton Liberty LLC, Hamilton Patriot LLC, Hamilton Projects Acquiror, LLC.

Description: Application for Authorization Under Section 203 of the Federal Power Act of Hamilton Liberty LLC, et al.

Filed Date: 02/19/2021.

Accession Number: 20210219-5199.

Comment Date: 5 p.m. ET 3/12/21.

Take notice that the Commission received the following exempt wholesale generator filings:

Docket Numbers: EG21-91-000.

Applicants: Dodge Flat Solar, LLC.

Description: Notice of Self-Certification of Exempt Wholesale Generator Status of Dodge Flat Solar, LLC.

Filed Date: 02/11/2021.

Accession Number: 20210211-5214.

Comment Date: 5 p.m. ET 3/4/21.

Docket Numbers: EG21-92-000.

Applicants: Prairie State Solar, LLC.

Description: Notice of Self-Certification of Exempt Wholesale Generator Status of Prairie State Solar, LLC.

Filed Date: 02/22/2021.

Accession Number: 20210222-5093.

Comment Date: 5 p.m. ET 3/15/21.

Docket Numbers: EG21-93-000.

Applicants: Dressor Plains Solar, LLC.

Description: Notice of Self-Certification of Exempt Wholesale Generator Status of Dressor Plains Solar, LLC.

Filed Date: 02/22/2021.

Accession Number: 20210222-5095.

Comment Date: 5 p.m. ET 3/15/21.

Docket Numbers: EG21-94-000.

Applicants: Elora Solar, LLC.

Description: Notice of Self-Certification of Exempt Wholesale Generator Status of Elora Solar, LLC.

Filed Date: 02/22/2021.

Accession Number: 20210222-5094.

Comment Date: 5 p.m. ET 3/15/21.

Take notice that the Commission received the following electric rate filings:

Docket Numbers: ER20-1208-002.

Applicants: David Energy Supply, LLC.

Description: Notice of Change in Status of David Energy Supply, LLC.

Filed Date: 02/19/2021.

Accession Number: 20210219-5201.

Comment Date: 5 p.m. ET 3/12/21.

Docket Numbers: ER20-1618-000.

Applicants: Red Horse Wind 2, LLC.

Description: Red Horse Wind 2, LLC submits tariff filing per 35.19a(b): Refund Report Under Docket No. ER20-1618 to be effective N/A.

Filed Date: 02/22/2021.

Accession Number: 20210222-5038.

Comment Date: 5 p.m. ET 3/15/21.

Docket Numbers: ER20-1619-000.

Applicants: Red Horse III, LLC.

Description: Red Horse III, LLC submits tariff filing per 35.19a(b): Refund Report Under Docket No. ER20-1619 to be effective N/A.

Filed Date: 02/22/2021.

Accession Number: 20210222-5039.

Comment Date: 5 p.m. ET 3/15/21.

Docket Numbers: ER21-461-001.

Applicants: El Paso Electric Company.

Description: El Paso Electric Company submits tariff filing per 35.17(b): Supplemental Information: Service Agreement No. 346, EPE—La Mesa PV I LLC SGIA to be effective 1/23/2021.

Filed Date: 02/22/2021.

Accession Number: 20210222-5151.

Comment Date: 5 p.m. ET 3/15/21.

Docket Numbers: ER21-471-001.

Applicants: Midcontinent Independent System Operator, Inc.

Description: Midcontinent Independent System Operator, Inc. submits tariff filing per 35.17(b): 2021-02-22_SA 3576 Deficiency Response for MDU-Emmons Logan Wind FSA (J302 J503) to be effective 1/24/2021.

Filed Date: 02/22/2021.

Accession Number: 20210222-5165.

Comment Date: 5 p.m. ET 3/15/21.

Docket Numbers: ER21-965-000.

Applicants: Ventura Energy Storage, LLC.

Description: Supplement to January 28, 2021 Ventura Energy Storage, LLC tariff filing.

Filed Date: 02/22/2021.

Accession Number: 20210222-5152.

Comment Date: 5 p.m. ET 3/15/21.

Docket Numbers: ER21-1186-000.

Applicants: ITC Great Plains, LLC.

Description: ITC Great Plains, LLC submits tariff filing per 35.13(a)(2)(iii): Facilities Cost Recovery Service Agreement with Iron Star Wind Project, LLC to be effective 4/26/2021.

Filed Date: 02/22/2021.

Accession Number: 20210222-5041.

Comment Date: 5 p.m. ET 3/15/21.

Docket Numbers: ER21-1187-000.

Applicants: Dressor Plains Solar, LLC.

Description: Dressor Plains Solar, LLC submits tariff filing per 35.12: Application for Market-Based Rate Authority to be effective 4/15/2021.

Filed Date: 02/22/2021.

Accession Number: 20210222-5060.

Comment Date: 5 p.m. ET 3/15/21.

Docket Numbers: ER21-1188-000.

Applicants: Prairie State Solar, LLC.

Description: Prairie State Solar, LLC submits tariff filing per 35.12: Application for Market-Based Rate Authority to be effective 4/15/2021.

Filed Date: 02/22/2021.

Accession Number: 20210222-5062.

Comment Date: 5 p.m. ET 3/15/21.

Docket Numbers: ER21-1189-000.

Applicants: AEP Texas Inc.

Description: AEP Texas Inc. submits tariff filing per 35.13(a)(2)(iii): AEPTX-LCRA TSC El Campo Facilities Development Agreement to be effective 2/17/2021.

Filed Date: 02/22/2021.

Accession Number: 20210222-5086.

Comment Date: 5 p.m. ET 3/15/21.

Docket Numbers: ER21-1190-000.

Applicants: City of Dover, Delaware.

Description: City of Dover, Delaware submits tariff filing per 35.13(a)(2)(iii): Deactivation of McKee Generating Facility to be effective 6/1/2021.

Filed Date: 02/22/2021.

Accession Number: 20210222-5142.

Comment Date: 5 p.m. ET 3/15/21.

Docket Numbers: ER21-1191-000.

Applicants: Southwestern Electric Power Company.

Description: Southwestern Electric Power Company submits tariff filing per 35.13(a)(2)(iii): Revised and Restated Minden PSA to be effective 1/1/2018.

Filed Date: 02/22/2021.

Accession Number: 20210222-5143.

Comment Date: 5 p.m. ET 3/15/21.

Docket Numbers: ER21-1192-000.

Applicants: California Independent System Operator Corporation.

Description: § 205(d) Rate Filing: 2021-02-22 Amendment—Market Parameters and Import Bidding Related to Order 831 to be effective 12/31/9998.

Filed Date: 2/22/21.

Accession Number: 20210222-5177.

Comments Due: 5 p.m. ET 3/15/21.

Docket Numbers: ER21-1193-000.

Applicants: Southwest Power Pool, Inc.

Description: Request for Limited Waiver of Tariff Provision, et al. of Southwest Power Pool, Inc.

Filed Date: 2/22/21.

Accession Number: 20210222-5198.

Comments Due: 5 p.m. ET 2/23/21.

Take notice that the Commission received the following PURPA 210(m)(3) filings:

Docket Numbers: QM21-4-000.

Applicants: East Texas Electric Cooperative, Inc.

Description: Application of East Texas Electric Cooperative, Inc. to Terminate Its Mandatory Purchase Obligation under the Public Utility Regulatory Policies Act of 1978.

Filed Date: 02/19/2021.

Accession Number: 20210219-5204.

Comment Date: 5 p.m. ET 3/19/21.

Docket Numbers: QM21-5-000.

Applicants: East Texas Electric Cooperative, Inc.

Description: Application of East Texas Electric Cooperative, Inc. to Terminate Its Mandatory Purchase Obligation under the Public Utility Regulatory Policies Act of 1978.

Filed Date: 02/22/2021.

Accession Number: 20210222-5109.

Comment Date: 5 p.m. ET 3/22/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2021.
Nathaniel J. Davis, Sr.,
Deputy Secretary.

[FR Doc. 2021-04022 Filed 2-25-21; 8:45 am]

BILLING CODE 6717-01-P